DEPARTMENT OF TRANSPORTATION

Federal Aviation Administration

14 CFR Part 39

[Docket No. FAA-2013-0022; Directorate Identifier 2012-SW-004-AD; Amendment 39-17322; AD 2013-02-01]

RIN 2120-AA64

Airworthiness Directives; Bell Helicopter Textron Canada Limited (Bell) Helicopters

AGENCY: Federal Aviation Administration (FAA), DOT.

ACTION: Final rule; request for comments.

SUMMARY: We are adopting a new airworthiness directive (AD) for Bell Model 206L, 206L-1, 206L-3, and 206L-4 helicopters. This AD requires inspecting certain hydraulic servo actuator assemblies (servo) for a loose nut, shaft, and clevis assembly, modifying or replacing the servo as necessary, and reidentifying the servo. This AD is prompted by an investigation after an accident and the determination that there was a loose connection due to improper lock washer installation. These actions are intended to detect loose or misaligned parts of the servo to prevent failure of the servo and subsequent loss of control of the helicopter.

DATES: This AD becomes effective February 7, 2013.

The Director of the Federal Register approved the incorporation by reference of a certain document February 7, 2013.

We must receive comments on this AD by March 25, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, the economic evaluation The street address for the Docket Operations Office (telephone 800-647-5527) is in the ADDRESSES section. Comments will be available in the AD docket shortly after receipt.

For service information identified in this AD, contact Bell Helicopter Textron Canada Limited, 12,800 Rue de l'Avenir, Mirabel, Quebec J7J1R4; telephone (450) 437-2862 or (800) 363-8023; fax (450) 433-0272; or at http://www.bellcustomer.com/files/. You may review the referenced service information at the FAA, Office of the Regional Counsel, Southwest Region, 2601 Meacham Blvd., Room 663, Fort Worth, Texas 76137.

FOR FURTHER INFORMATION CONTACT: Matt Wilbanks, Aviation Safety Engineer, Rotorcraft Certification Office, Rotorcraft Directorate, FAA, 2601 Meacham Blvd., Fort Worth, Texas 76137; telephone (817) 222-5110; email matt.wilbanks@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

Transport Canada Civil Aviation (TCCA) has issued AD No. CF-2011-19R1, Revision 1, dated December 7, 2011, to correct an unsafe condition for the Bell Model 206L, 206L-1, 206L-3 helicopters, all serial numbers (S/N), and Model 206L-4 helicopters, S/Ns 52001 through 52430, with servo, part number (P/N) 206-076-062-103, installed. TCCA advises that a “quality escape” by a supplier occurred, and a number of Bell servos may have a loose nut, shaft, and clevis assembly. According to TCCA, the loose connection is due to improper lock washer installation. TCAA advises that this discrepancy is not traceable or identifiable except by inspection and that a “disconnect” of the affected components may lead to loss of control of the helicopter. TCAA states Revision 1 of its AD retains the mandated inspections and corrective action in the original issue of its AD but expands the applicability to include all serial-numbered servos.

FAA's Determination

These helicopter models are manufactured in Canada and are type certificated for operation in the United States under the provisions of 14 CFR 21.29 and the applicable bilateral agreement. Pursuant to the bilateral agreement, TCCA has kept the FAA informed of the situation described above. We are issuing this AD because we evaluated all information provided by TCCA and determined the unsafe condition is likely to exist or develop on other helicopters of these same type designs.

Related Service Information

Bell has issued Alert Service Bulletin (ASB) No. 206L-11-169, Revision B, dated August 29, 2011 (ASB), which specifies, before next flight, unless previously accomplished, a one-time inspection for loose or misaligned parts of the servos, P/N 206-076-062-103, installed on Bell Model 206L, 206L-1, and 206L-3 helicopters, all S/Ns, and Model 206L-4 helicopters, S/Ns 52001 through 52430. TCCA classified this ASB as mandatory and issued AD No. CF-2011-19R1 to ensure the continued airworthiness of these helicopters.

Differences Between This AD and the TCAA AD

The TCCA AD requires you to return the parts removed from service to the manufacturer. This AD does not.

AD Requirements

This AD requires for each servo, before further flight, retracting the boot and determining whether the nut, shaft, or clevis assembly turns independently from each other. If the shaft turns independently this AD requires replacing the servo with an airworthy servo. If the shaft does not turn independently, this AD requires inspecting the servo to determine the tab alignment. If at least one tab is not aligned with and bent flush against a nut flat surface and at least one tab is not aligned with and bent flush against a flat surface of the clevis assembly, this AD requires replacing the servo with an airworthy servo. If any tab of the lock washer is not bent flush against either a flat surface of the nut or clevis assembly, this AD requires bending the tab flush against a flat surface. This AD also requires re-identifying the servo on the identification plate.

Costs of Compliance

We estimate that this AD will affect 695 helicopters of U.S. Registry. We estimate that operators may incur the following costs in order to comply with this AD. It will take about .5 work hour to inspect and re-identify a servo at $85 per work hour for a total cost per helicopter of about $43, and a total cost to the U.S. operator fleet of $29,538. Replacing a servo will take about 2 work hours and parts costing $33,000, for a total cost per helicopter of $33,170.

FAA's Justification and Determination of the Effective Date

Providing an opportunity for public comments prior to adopting these AD requirements would delay implementing the safety actions needed to correct this known unsafe condition. Therefore, we find that the risk to the flying public justifies waiving notice and comment prior to the adoption of this rule because the required corrective actions must be accomplished before further flight.

Since an unsafe condition exists that requires the immediate adoption of this AD, we determined that notice an opportunity for public comment before issuing this AD are impracticable and contrary to the public interest and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-02-01 Bell Helicopter Textron Canada Limited (Bell): Amendment 39-17322; Docket No. FAA-2013-0022; Directorate Identifier 2012-SW-004-AD.

(a) Applicability

This AD applies to Bell Model 206L, 206L-1, and 206L-3 helicopters, all serial numbers (S/N), and Model 206L-4 helicopters, S/Ns 52001 through 52430, with a hydraulic servo actuator assembly (servo), part number (P/N) 206-076-062-103, installed, certificated in any category.

(b) Unsafe Condition

This AD defines the unsafe condition as loose or misaligned parts of the servo. This condition could result in failure of the servo and subsequent loss of control of the helicopter.

(c) Effective Date

This AD becomes effective February 7, 2013.

(d) Compliance

You are responsible for performing each action required by this AD within the specified compliance time unless it has already been accomplished prior to that time.

(e) Required Actions

Before further flight, for each servo:

(1) Retract the boot as depicted in Figure 1 of Bell Alert Service Bulletin (ASB) No. 206L-11-169, Revision B, dated August 29, 2011 (ASB).

(2) Applying only hand pressure, determine whether the nut, shaft, and clevis assembly turn independently from each other.

(i) If the shaft turns independently of the nut or the clevis assembly, before further flight, replace the servo with an airworthy servo.

(ii) If the shaft does not turn independently of the nut or the clevis assembly, inspect to determine whether at least one tab of the lock washer (tab) is aligned with and bent flush against a flat surface of the nut and whether at least one tab is aligned with and bent flush against a flat surface of the clevis assembly.

(A) If at least one tab is aligned with and bent flush against a nut flat surface and at least one tab is aligned with and bent flush against a flat surface of the clevis assembly, for any tab that is not bent flush against either a flat surface of the nut or clevis assembly, bend it flush against a flat surface.

(B) If at least one tab is not aligned with and bent flush against a nut flat surface and at least one tab is not aligned with and bent flush against a flat surface of the clevis assembly, before further flight, replace the servo with an airworthy servo.

(3) Re-identify the servo by metal-impression stamping or by vibro-etching the letter “V” at the end of P/N 206-076-062-103V on the identification plate.

(f) Alternative Methods of Compliance (AMOCs)

(1) The Manager, Safety Management Group, FAA, may approve AMOCs for this AD. Send your proposal to: Matt Wilbanks, Aviation Safety Engineer, Rotorcraft Certification Office, Rotorcraft Directorate, FAA, 2601 Meacham Blvd., Fort Worth, Texas 76137; telephone (817) 222-5110; email matt.wilbanks@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in Transport Canada Civil Aviation AD CF-2011-19R1, Revision 1, dated December 7, 2011.

(h) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Bell ASB No. 206L-11-169, Revision B, dated August 29, 2011.

(ii) Reserved.

(3) For Bell service information identified in this AD, contact Bell Helicopter Textron Canada Limited, 12,800 Rue de l'Avenir, Mirabel, Quebec J7J1R4; telephone (450) 437-2862 or (800) 363-8023; fax (450) 433-0272; or at http://www.bellcustomer.com/files/.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

(i) Subject

Joint Aircraft Service Component (JASC) Code: 6730 Rotorcraft Servo System.

Issued in Fort Worth, Texas, on January 9, 2013.
Kim Smith,
Directorate Manager, Rotorcraft Directorate, Aircraft Certification Service.

[FR Doc. 2013-01008 Filed 1-22-13; 8:45 am]

BILLING CODE 4910-13-P